Title 3—

The President

Proclamation 9425 of April 18, 2016

Education and Sharing Day, U.S.A., 2016

By the President of the United States of America

A Proclamation

Our Nation has long been driven by the promise that anyone willing to work hard can make of their lives what they will, and ensuring opportunity is within reach for all requires us to provide every young person with access to a high-quality education. Our future is written in our classrooms, and on Education and Sharing Day, U.S.A., we reaffirm our belief that no matter who they are, where they come from, or what they look like, every child deserves an education that will help them develop their unique talents and passions, dream beyond their present circumstances, and unlock their greatest potential.

Investing in the education of our daughters and sons is among the best investments we can make as a Nation. My Administration has worked to expand high-quality early education—something that can pay off over a child's entire lifetime—and we have proposed a plan to offer 2 years of free community college to anyone willing to work for it, because in America, a quality education cannot be a privilege reserved for a few. Last year, I was proud to sign the Every Student Succeeds Act—bipartisan legislation that will help prepare more of our young people to seize tomorrow's possibilities. By adopting higher academic standards, increasing accountability for underperforming schools, making testing more efficient, and empowering State and local leaders to develop their own systems for school improvement based on evidence, rather than impose piecemeal solutions to serious problems, this law provides schools across America with the resources and flexibility needed for students to thrive. And earlier this year, I announced Computer Science for All, a collaborative effort to give every child in America the opportunity to learn computer science, and in the time since, a growing coalition of businesses, school leaders, and State and local governments have joined this initiative.

As we continue to build strong foundations for our students here at home, we recognize those around the world who are prevented from obtaining a quality education. That is why my Administration launched the Let Girls Learn initiative, spearheaded by First Lady Michelle Obama, to help adolescent girls worldwide get the quality education they need to reach their full potential. Through this campaign, we are helping to break down barriers for girls across the globe and working to shift attitudes and beliefs, affirm the inherent dignity and worth of every child, and harness the power of our society to rise above our present obstacles to forge the future we know is possible.

The advances we have made in education are a result of the many educators, administrators, and advocates who have opened the doors of opportunity for countless young people. Today, we pay special tribute to Rabbi Menachem Mendel Schneerson, the Lubavitcher Rebbe, for his tireless devotion to extending access to education to more people—regardless of their gender or background. The Rebbe's lifetime of contribution imparts a reminder of the tremendous importance of making sure every child has the tools and resources they need to grow, flourish, and pursue their dreams. On this day, let us carry forward the Rebbe's legacy by recognizing the limitless potential of each young person and empowering the next generation to lead our country, and our world, toward an ever brighter tomorrow.

NOW, THEREFORE, I, BARACK OBAMA, President of the United States of America, by virtue of the authority vested in me by the Constitution and the laws of the United States, do hereby proclaim April 19, 2016, as Education and Sharing Day, U.S.A. I call upon all Americans to observe this day with appropriate ceremonies and activities.

IN WITNESS WHEREOF, I have hereunto set my hand this eighteenth day of April, in the year of our Lord two thousand sixteen, and of the Independence of the United States of America the two hundred and fortieth.

[FR Doc. 2016-09482

Filed 4-20-16; 11:15 am]

Billing code 3295-F6-P